OVERSEAS PRIVATE INVESTMENT CORPORATION

Sunshine Act Cancellation Notice—OPIC March 9, 2016 Public Hearing

OPIC's Sunshine Act notice of its Public Hearing in Conjunction with each Board meeting was published in the Federal Register (Volume 81, Number 30, Page 7847) on Tuesday, February 16, 2016. No requests were received to provide testimony or submit written statements for the record; therefore, OPIC's public hearing scheduled for 2 p.m., March 9, 2016 in conjunction with OPIC's March 17, 2016 Board of Directors meeting has been cancelled.

Contact Person for Information: Information on the hearing cancellation may be obtained from Catherine F.I. Andrade at (202) 336-8768, or via email at Catherine.Andrade@opic.gov.

Dated: March 3, 2016.
Catherine F.I. Andrade,
OPIC Corporate Secretary.

[FR Doc. 2016-05166 Filed 3-3-16; 4:15 pm]

BILLING CODE 3210-01-P